FEDERAL COMMUNICATIONS COMMISSION

[DA 17-1227]

Media Bureau Freezes the Filing of Minor Change Applications for LPTV/Translator Stations

AGENCY: Federal Communications Commission.

ACTION: Notice.

SUMMARY: This document announces a freeze on the filing of minor change applications by low power television and TV translator stations.

DATES: This filing limitation became effective on December 20, 2017.

FOR FURTHER INFORMATION CONTACT: Shaun Maher, Video Division, Media Bureau, Federal Communications Commission, Shaun.Maher@fcc.gov, (202) 418-2324.

SUPPLEMENTARY INFORMATION: Effective immediately, the Media Bureau announces a freeze on the filing of applications for minor change applications for low power television (LPTV) and TV translator stations. The incentive auction is being conducted pursuant to Title VI of the Middle Class Tax Relief and Job Creation Act of 2012. It includes a “reverse auction” and reorganization or “repacking” of the broadcast television bands in order to free up a portion of the ultra-high frequency band for new flexible uses. The facilities of LPTV and TV translator stations are not protected during repacking. “Operating” LPTV and TV translator stations displaced by repacking will be permitted to file displacement applications in a special window to be opened following the completion of the auction. “Operating” stations are defined as those that have licensed their authorized construction permit facilities or have an application for a license to cover on file with the Commission on the release date of the incentive auction Closing and Channel Reassignment Public Notice.

To facilitate the special window for displaced LPTV and TV translator stations and to protect the opportunity for LPTV and TV translator stations displaced by the repacking of the television bands to obtain a new channel in the special window from the limited number of channels likely to be available for application after repacking, the Media Bureau deems it appropriate to freeze the acceptance of minor change applications at this time. The Media Bureau will continue to process pending minor change applications. Following completion of the special window for displaced LPTV/translator stations, the Media Bureau will announce when it will again begin accepting minor change applications.

The Media Bureau will consider, on a case-by-case basis, requests for waiver of the filing limitation imposed by this Public Notice when a minor change application is necessary or otherwise in the public interest for technical or other reasons to maintain quality service to the public. As with any request for waiver of our rules, such a request will be granted only on a showing of good cause and when grant of the waiver will serve the public interest.

The decision to impose this freeze is procedural in nature, and therefore is not subject to the notice and comment and effective date requirements of the Administrative Procedure Act, 5 U.S.C. 553(b)(A), (d). Moreover, the Media Bureau finds that there is good cause for not delaying the effect of these procedures until 30 days after publication in the Federal Register. Such a delay would be impractical, unnecessary, and contrary to the public interest because it would undercut the purposes of the freeze.

This action is taken by the Chief, Media Bureau pursuant to authority delegated by 47 CFR 0.283 of the Commission's rules.

Federal Communications Commission.
Barbara Kreisman,
Chief, Video Division, Media Bureau.

[FR Doc. 2018-00286 Filed 1-9-18; 8:45 am]

BILLING CODE 6712-01-P